DEPARTMENT OF JUSTICE

Notice of Lodging of Proposed Amendment to Consent Decree Under the Comprehensive Environmental Response, Compensation, and Liability Act

Under 28 CFR 50.7, notice is hereby given that on February 27, 2003, a proposed Amendment to the Consent Decree entered on December 9, 1997 (“Amendment”) in United States v. Ajax/Acorn Manufacturing, Inc., Civil Action No. 89-7421, was lodged with the United States District Court for the Eastern District of Pennsylvania.

The 1997 consent decree resolved the liability of twenty-two municipalities and a private waste hauler for claims of the United States and the Pennsylvania Department of Environment Protection (“PADEP”) under sections 106 and 107 of the Comprehensive Environmental Response, Compensation and Liability Act, 42 U.S.C. 9606 and 9607, at the Moyer Landfill Superfund Site, located in Lower Providence Township, Montgomery County, Pennsylvania (“the Site”). The 1997 consent decree required the settling defendants to design and construct an on-site treatment plant to treat leachate from the Site.

The proposed Amendment reflects that EPA has now adopted a contingent remedy under which leachate will be sent through the local sewer main to the Oaks Sewage Treatment Plant for treatment. Under the Amendment, the settling defendants are no longer obligated to perform work related to leachate treatment that will now be the responsibility of PADEP. The Amendment also provides that $600,000 remaining in the settling defendants trust account for construction of the on-site treatment plant will be paid to PADEP, since PADEP has assumed responsibility for design, construction, operation and maintenance of the remedy for leachate treatment at the Landfill.

The Department of Justice will receive for a period of thirty (30) days from the date of this publication comments relating to the Amendment. Comments should be addressed to the Assistant Attorney General, Environment and Natural Resources Division, P.O. Box 7611, U.S. Department of Justice, Washington, DC 20044-7611, and should refer to United States v. Ajax/Acorn Manufacturing Inc., Civil Action No. 89-7421, D.J. Ref. 90-11-3-145.

The Amendment may be examined at the Office of the United States Attorney, Eastern District of Pennsylvania, 615 Market Street, Suite 1250, Philadelphia, PA, 19106, and at U.S. EPA Region III, 1650 Arch Street, Philadelphia, PA 19103-2029. During the public comment period, the Amendment may also be examined on the following Department of Justice Web site, http://www.usdoj.gov/enrd/open.html. A copy of the Amendment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $47.75 payable to the U.S. Treasury. In requesting a copy exclusive of exhibits and defendants' signatures, please enclose a check in the amount of $8.25 payable to the U.S. Treasury.

Robert Brook,
Assistant Chief, Environmental Enforcement Section, Environment and Natural Resources Division.

[FR Doc. 03-5880 Filed 3-11-03; 8:45 am]

BILLING CODE 4410-15-M